DEPARTMENT OF HEALTH AND HUMAN SERVICES

Food and Drug Administration

[Docket No. FDA-2015-N-0001]

Office of Women's Health General Update on Strategic Priorities and Initiatives

AGENCY: Food and Drug Administration, HHS.

ACTION: Notice of meeting.

SUMMARY: The Food and Drug Administration (FDA) is announcing the following meeting: Office of Women's Health General Update on Strategic Priorities and Initiatives. FDA staff will provide updates on strategic priorities, educational outreach, and research initiatives of interest to national organizations focused on the health of women.

DATES: The meeting will be held on November 30, 2015, 9 a.m. to 11 a.m.

ADDRESSES: The meeting will be held at the AARP Cy Brickfield Center, 601 East St. NW., Washington, DC 20049.

FOR FURTHER INFORMATION CONTACT: Deborah Kallgren, Office of Women's Health, Food and Drug Administration, 10903 New Hampshire Ave., Silver Spring, MD 20993-0002, 301-796-9440, FAX: 301-847-8604, deborah.kallgren@fda.hhs.gov.

SUPPLEMENTARY INFORMATION: There is no fee, but pre-registration is required. Send registration information (including name, title, firm or organization name, address, telephone, and fax number) to Deborah Kallgren. Seating is limited to 25 participants (1 person per organization).

If you need special accommodations due to a disability, please contact Deborah Kallgren (see FOR FURTHER INFORMATION CONTACT) at least 7 days in advance.

Dated: October 13, 2015.
Leslie Kux,
Associate Commissioner for Policy.

[FR Doc. 2015-26439 Filed 10-16-15; 8:45 am]

BILLING CODE 4164-01-P